DEPARTMENT OF LABOR

Employment and Training Administration

[TA-W-53,021]

Carm Newsome Hosiery, Inc., Ft. Payne, AL; Notice of Termination of Investigation

Pursuant to section 221 of the Trade Act of 1974, as amended, an investigation was initiated on September 26, 2003, in response to a petition filed on behalf of workers at Carm Newsome Hosiery, Inc., Ft. Payne, Alabama.

The petitioner has requested that the petition be withdrawn. Consequently, the investigation has been terminated.

Signed at Washington, DC, this 3rd day of October, 2003.
Richard Church,
Certifying Officer, Division of Trade Adjustment Assistance.

[FR Doc. 03-29679 Filed 11-26-03; 8:45 am]

BILLING CODE 4510-30-P